DEPARTMENT OF VETERANS AFFAIRS

Fund Availability Under VA's Homeless Providers Grant and Per Diem Program (VANS)

AGENCY: Department of Veterans Affairs.

ACTION: Notice.

SUMMARY: The Department of Veterans Affairs (VA) is announcing the availability of funds for assistance to acquire vans in order to facilitate transportation of veteran participants for currently operational Grant and Per Diem grantee projects funded under VA's Homeless Providers Grant and Per Diem Program and demonstrate an occupancy rate of 65 percent or better for the period of October 1, 2012, through March 31, 2013. This Notice of Funding Availability (NOFA) contains information concerning the program, funding priorities, application process, and amount of funding available.

DATES: An original completed and collated grant application (plus three completed collated copies) for assistance under VA's Homeless Providers Grant and Per Diem Program must be received in the Grant and Per Diem Program Office by 4:00 p.m. Eastern Time on Friday, June 28, 2013. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays, computer service outages (in the case of Grants.gov), or other delivery-related problems.

For a Copy of the Application Package: Download directly from VA's Grant and Per Diem Program Web page at: http://www.va.gov/HOMELESS/GPD.asp or http://www.grants.gov/. Questions should be referred to the Grant and Per Diem Program at (toll-free) (877) 332-0334. For additional information on VA's Homeless Providers Grant and Per Diem Program, see Title 38, Code of Federal Regulations (CFR) part 61.

Submission of Application: An original completed and collated grant application (plus three copies) must be submitted to the following address: VA's Homeless Providers Grant and Per Diem Program Office, 10770 North 46th Street, Suite C-200, Tampa, Florida 33617. Applications must be received in the Grant and Per Diem Program Office by the application deadline. This includes applications submitted through Grants.gov. Applications must arrive as a complete package. Materials arriving separately will not be included in the application package for consideration and may result in the application being rejected or not funded.

FOR FURTHER INFORMATION CONTACT: Mr. Jeffery L. Quarles, Director, VA's Homeless Providers Grant and Per Diem Program, Department of Veterans Affairs, 10770 North 46th Street, Suite C-200, Tampa, Florida 33617; (toll-free) (877) 332-0334.

SUPPLEMENTARY INFORMATION: This NOFA announces the availability of capital funds under VA's Homeless Providers Grant and Per Diem Program for current operational Grant and Per Diem grantees seeking to purchase a van(s) to facilitate transportation of veteran participants. Only one application for funding per operational grant project number may be awarded. However, in the one allowable application, if the grantee has 50 or more beds associated with that project number, 2 vans may be requested. Please refer to 38 CFR part 61 for detailed program information.

Purpose: VA is pleased to issue this NOFA for VA's Homeless Providers Grant and Per Diem Program as a part of the effort to increase the availability of transportation to veteran participants in Grant and Per Diem funded programs by providing funding to purchase a van(s).

Definitions: 38 CFR 61.1 contains definitions of terms used in VA's Homeless Providers Grant and Per Diem Program. The District of Columbia, Commonwealth of Puerto Rico, and any territory or possession of the United States, may be considered eligible entities under the definition of “State” in 38 CFR 61.1.

Authority: Funding applied for under this Notice is authorized by title 38 U.S.C. 2011, 2012, 2013, and 2061. VA implements this statutory authority in 38 CFR part 61. Funds made available under this NOFA are subject to the requirements of those regulations.

Inspections and Monitoring Requirements: VA places a great deal of emphasis on the responsibility and accountability of grantees. VA will request the purchase documents, a copy of the title, and insurance upon completion of the purchase. VA may also inspect the van(s) upon completion of the purchase to determine if it was accomplished in accordance with the application submitted and meets all appropriate regulations. Applicants agree to submit reasonable assurances with respect to receipt of a capital grant under this part that:

(1) The van(s) will be used principally to furnish veterans the level of care for which VA awarded the applicant the original grant under the VA's Homeless Providers Grant and Per Diem Program; that not more than 25 percent of participants at any one time will be non-veterans; and that such services will meet the requirements of 38 CFR 61.1-61.82;

(2) The recipient will keep records and submit reports as VA may reasonably require, within the time frames required and give VA, upon demand, access to the records upon which such information is based;

(3) The applicant has agreed to comply with the applicable requirements of 38 CFR part 61 and other applicable laws and has demonstrated the capacity to do so;

(4) The applicant does not have an outstanding obligation to VA that is in arrears, and does not have an overdue or unsatisfactory response to an audit; and

(5) The applicant is not in default by failing to meet requirements for any previous assistance from VA.

Allocation: Approximately $2 million is available for grant awards under this NOFA. The amount awarded will not exceed 65 percent of the estimated total cost of the van(s) as stated in the van application. The maximum amount of the van(s) award will be the lesser of the approved van(s) award amount, and the actual cost of the van(s) not to exceed $35,000.00 per van. As applicants are already operating, they should take note that if the application is successful and van(s) funding is awarded under this NOFA, they will be subject to the recapture provisions of 38 CFR 61.67(f) for this award and the disposition requirements of 38 CFR 49.34 and 43.32. Applicants should become familiar with the amount of time the van(s) will have to operate as based on the amount of funding awarded. Operational time for these grants will begin upon van(s) purchase. Grantees will be required to support their request for the van(s) (see Application Requirements).

Payments: Under this NOFA, VA will make payments in a method consistent with VA policy. Payments will be paid only for allowable costs as specified under the Office of Management and Budget Circulars for Grants Management and for the activities outlined in this NOFA. All payment specifics will be given to the grantee at the time of award.

Application: Applicants should be careful to complete the proper application package. Submission of an incorrect or incomplete application package may result in the application being rejected at threshold. The package will consist of two parts. The first part will be the standard forms required for van grants to include all required forms and certifications and will be provided by VA on the Grant and Per Diem Web site. They are:

Application for Federal Assistance (Standard Form 424)

Application Receipt Form (VA Form 10-0361A)

General Assurances (VA Form 10-0361 VAN)

Certification Regarding Debarment, Suspension and other Responsibility Matters

—Primary Transactions (VA Form 10-0361)

Certification Regarding Debarment, Suspension and other Responsibility Matters

—Lower Tier Transactions (VA Form 10-0361)

Certification Regarding Debarment, Suspension, Ineligibility and Voluntary

—Exclusion Lower Tier Covered Transactions (VA Form 10-0361)

Certification Drug Free Workplace (VA Form 10-0361)

Certification Regarding Lobbying (VA Form 10-0361)

Standard Form 424A, Non-Construction Budget

Standard Form 424B, Non-Construction Assurances

The second part of the application will be provided by applicants and consist of a project narrative and supporting documentation for purchase (see Application Requirements). Selections will be made based on the criteria described in the application, VA regulations, and NOFA. Applicants who are conditionally selected will be notified of any additional information needed to confirm or clarify information provided in the application. Applicants will then be notified of the deadline to submit such information. If an applicant is unable to meet any conditions for grant award within the specified time frame, VA reserves the right to not award funds and to use the funds available for other Grant and Per Diem applicants.

Application Requirements: This section sets forth provisions for obtaining a van capital grant under 38 U.S.C. 2011. In addition to being an eligible entity, an applicant already must have received a grant under VA's Homeless Providers Grant and Per Diem Program and that grant must currently be operational. In addition, the project must demonstrate an occupancy rate of 65 percent or better for the period of October 1, 2012, through March 31, 2013. Potential applicants may contact the Grant and Per Diem Program Office to determine if this requirement is met prior to application.

Project Narrative and Supporting Documentation: Applicants will be required to provide an Internal Revenue Service (IRS) 501(c) Determination Letter and a letter from a Certified Public Accountant (CPA) or letter from the United Way stating they are a member in good standing. Applicants must also submit a narrative responding to the items and questions in this section of the NOFA. The responses should be labeled with the same titles and order of this NOFA. This is to be completed in a normal business format on not more than 15 double-spaced typed, single-sided pages in Arial 12 font. The narrative should address the following:

Budget Summary: Note: The estimated total costs of purchasing the van(s) may include the purchase price, sales taxes, title, and licensing fees.

(a) The Total Cost of the Van(s). This is the amount requested from VA plus the remaining balance of funds required to complete acquisition.

(b) Sixty-Five Percent of Total Cost Requested from VA. This is the amount of VA participation.

(c) Thirty-Five Percent Matching Funds. Provide the cash value of documented cash and in-kind resources from other public (including Federal and State) and private sources that are committed to the acquisition of the van(s), i.e., applicant cash, third party cash, third party non-cash.

Supporting Documentation of Match: Applicants must document matching resources on the appropriate organization letterhead stationary in the following format.

(a) Applicant Cash Resources: If this proposal is funded, applicant will commit $____ of its own funds for ____ to be made available to VA's Homeless Providers Grant and Per Diem program. The funds will be available on ____.

(b) Third Party Cash: If this proposal is funded, ____ will commit $____ to ____ for ____ to be made available to VA's Homeless Providers Grant and Per Diem program. These funds will be made available on ____.

(c) Third Party Non-Cash: If this proposal is funded, ____ will commit to make available ____ valued at $____ to VA's Homeless Providers Grant and Per Diem program proposed by ____. These resources will be made available to VA's Homeless Providers Grant and Per Diem program from ____ to ____.

Timeline: Please provide the number of estimated days and from execution of the grant agreement that it will take for the van(s) acquisition to occur.

Description of Need: The information you provide here will assist in the rating of your project. Identify the need for this van(s), by providing a short and descriptive narrative responding to each of the following items:

(a) Identify other sources of alternate public transportation available to homeless veterans in your project.

(b) Project location (e.g., is the project you are requesting a van or vans for located on medical center grounds? If yes, explain how the van(s) will be used to link homeless veterans with services off of the VA property in the community).

(c) Is this van(s) replacing a van(s) due to expired life use of current van(s)?

(d) Is this van(s) for special disabled individual transportation?

Description of Activity: Describe how the van(s) will facilitate service to homeless veteran participants. Include the following:

(a) Frequency of use.

(b) Type of use (e.g., describe how frequently the van or vans will be used for outreach versus used as an appointment shuttle and or greater access to neighborhood activities, services, and institutions).

(c) Type of van(s) (e.g., passenger van, justification for wheelchair lift, or other modifications. Include all options and or extra equipment that will be added to the van(s)).

Describe Operator Qualification: Provide a job description for the van operator that details the following:

(a) Requirements of the position, and

(b) Training that will be provided to the driver.

Methodology: VA will review all capital grant applications in response to this NOFA as follows: VA will group the applicants into the funding priority categories as applicable. Applicants will then be ranked within their respective funding category based on score and any ranking criteria set forth in that funding category, only if the applicant scores at least 80 cumulative points under the criteria in 38 CFR 61.18(d)(1-3).

The highest-ranked application for which funding is available, within the highest funding category, will be conditionally selected in accordance with their ranked order until VA reaches the projected amount of funding for each category. If funds are still available after selection of those applications in the highest priority group, VA will continue to conditionally select applicants in lower priority categories in accordance with the selection method set forth in 38 CFR 61.14.

Signing Authority

The Secretary of Veterans Affairs, or designee, approved this document and authorized the undersigned to sign and submit the document to the Office of the Federal Register for publication electronically as an official document of the Department of Veterans Affairs. Jose D. Riojas, Interim Chief of Staff, Department of Veterans Affairs, approved this document on May 9, 2013 for publication.

Dated: May 10, 2013.
Robert C. McFetridge,
Director of Regulation Policy and Management, Office of General Counsel, Department of Veterans Affairs.

[FR Doc. 2013-11585 Filed 5-15-13; 8:45 am]

BILLING CODE 8320-01-P